CONSUMER PRODUCT SAFETY COMMISSION

Sunshine Act Meeting

TIME AND DATE: Wednesday, April 26, 2023—10:00 a.m. (See MATTER TO BE CONSIDERED).

PLACE: The meeting will be held remotely, and in person at 4330 East-West Highway, Bethesda, Maryland 20814.

STATUS: Commission Meeting—Open to the Public.

MATTER TO BE CONSIDERED: Decisional Matter: FY 2023 Proposed Operating Plan Alignment and Midyear Review.

To attend virtually, please use the following link and details below:

https://cpsc.webex.com/weblink/register/r962d40686c8330537947146913d9cd3b

+1-415-527-5035 US Toll

Access code: 2760 154 6502

CONTACT PERSON FOR MORE INFORMATION: Elaine Niedzwiecki, Office of the Secretary, U.S. Consumer Product Safety Commission, 4330 East-West Highway, Bethesda, MD 20814, 301-504-7517.

Dated: April 19, 2023.
Elaine Niedzwiecki,
Administrative Officer.

[FR Doc. 2023-08636 Filed 4-19-23; 4:15 pm]

BILLING CODE P